DEPARTMENT OF HEALTH AND HUMAN SERVICES

Centers for Disease Control and Prevention

[30Day-09-08BK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Exploratory Research with People Living with Lung Cancer—New—Division of Cancer Prevention and Control (DCPC), National Center for Chronic Disease Prevention and Health Promotion (NCCDPHP), Centers for Disease Control and Prevention (CDC).

Background and Brief Description

Lung cancer is the most common cancer and is the leading cause of cancer related mortality in the world. Each year, over 215,000 Americans are diagnosed with lung cancer and a similar number die from the disease. The five-year survival rate for lung cancer is 15%. The needs of individuals affected by lung cancer have received less attention in health care research than the needs of individuals with other types of cancer. This results in a gap in knowledge about a significant number of people living with the diagnosis of lung cancer.

CDC proposes to conduct formative research to improve understanding of the challenges and needs of individuals living with lung cancer. Because smoking is one of the primary risk factors for lung cancer, the research will include respondents with different types of smoking history. This research will explore the influence of smoking status on individual experience with cancer diagnosis, stigma and discrimination, as well as counseling and support services. For example, individuals who have never smoked may face challenges in obtaining an initial diagnosis of lung cancer, while current or former smokers may feel subject to judgments or blame from others, including medical providers as well as family and friends.

Information will be collected during in-depth interviews (IDIs) with 27 respondents between the ages of 30 and 80 who have been diagnosed with lung cancer. Three different types of respondents will be recruited from partnering clinical practices in two U.S. cities (Greensboro, North Carolina and Temple, Texas): individuals who are Smokers (9), individuals who are Former Smokers (9), and individuals who Never Smoked (9). Each telephone interview will last approximately one hour.

The results of this exploratory research project will inform future research activities and the development of health-related information and services that will benefit individuals living with lung cancer. Project goals support the goals for cancer and communication described in Healthy People 2010.

There are no costs to respondents other than their time. The total estimated burden hours are 50.

Estimated Annualized Burden Hours
Type of respondents | Form name | Number of respondents | Number of responses per respondent | Average burden per response (in hours)
People Living with Lung Cancer | Contact Information Form and Consent for Contact | 88 | 1 | 8/60
| Screening Form | 66 | 1 | 10/60
| In-depth Interview Guide | 27 | 1 | 1

Dated: March 17, 2009.
Maryam I. Daneshvar,
Acting Reports Clearance Officer, Centers for Disease Control and Prevention.

[FR Doc. E9-6716 Filed 3-24-09; 8:45 am]

BILLING CODE 4163-18-P